ENVIRONMENTAL PROTECTION AGENCY

[CERCLA 01-2024-0051; EPA-R01-SFUND-2024-0544; FRL-12408-01-R1]

Proposed Cost Recovery Settlement Agreement Between the United States of America and Paramount Global Pursuant to the Comprehensive Environmental Response, Compensation, and Liability Act of 1980, as Amended; In Re: Wells G&H Superfund Site, Operable Unit 4, in Woburn, Massachusetts

AGENCY: Environmental Protection Agency (EPA).

ACTION: Notice of proposed settlement agreement; request for public comment.

SUMMARY: The U.S. Environmental Protection Agency (“EPA”), Region 1, hereby provides notice of a proposed settlement agreement (“Agreement”), under section 122(h)(1) of the Comprehensive Environmental Response, Compensation, and Liability Act, as amended (“CERCLA”), between EPA and Paramount Global (“Settling Party”), regarding Operable Unit 4 (“OU4”) of the Wells G&H Superfund Site, in Woburn, Massachusetts. The proposed Agreement resolves the matter at EPA Region 1 CERCLA Docket No. 01-2024-0051, pursuant to CERCLA section 122(h)(1) and the authority of the Attorney General of the United States to compromise and settle claims of the United States. The proposed Agreement requires Settling Party to make a $120,000 payment to EPA in partial reimbursement of response costs incurred in connection with an ongoing remedial action at OU4, in accordance with the Record of Decision issued by EPA on September 29, 2017. In return for this payment, the Agreement provides Settling Party with a covenant by EPA not to sue or take administrative action, pursuant to sections 106 or 107(a) of CERCLA, for performance of remedial work or recovery of response costs relating to OU4, subject to standard reservations of rights.

DATES: Comments must be submitted within 30 days following the date of publication of this notice.

ADDRESSES: The proposed Settlement Agreement and related Site documents are available at EPA's website www.epa.gov/superfund/wellsgh. The proposed Settlement Agreement is also available for public inspection at https://www.regulations.gov by searching for Docket ID No. EPA-R01-SFUND-2024-0544. The proposed Settlement Agreement and related Site documents are also available for public inspection at the U.S. EPA, Region 1, SEMD Records and Information Center, 5 Post Office Square, Suite 100, Boston, MA 02109 by appointment only, by calling 617-918-1440 or by emailing r1.records-sems@epa.gov.

FOR FURTHER INFORMATION CONTACT: Susan Scott, Senior Enforcement Counsel, U.S. EPA, Region 1, Office of Regional Counsel, 5 Post Office Square, Suite 100, Boston, MA 02109, scott.susan@epa.gov.

SUPPLEMENTARY INFORMATION: Submit any comments online via https://www.regulations.gov (Docket ID No. EPA-R01-SFUND-2024-0544). Follow the online instructions for submitting comments. Once submitted, comments cannot be edited or removed from Regulations.gov. Do not submit electronically any information you consider to be Confidential Business Information (“CBI”) or other information whose disclosure is restricted by statute. Multimedia submissions (audio, video, etc.) must be accompanied by a written comment. The written comment is considered the official comment and should include discussion of all points you wish to make. EPA will generally not consider comments or supporting materials located outside of the primary submission (e.g., on the web, cloud, or other file-sharing system). For the full EPA public comment policy, information about CBI or multimedia submissions, and general guidance on making effective comments, see https://www.epa.gov/dockets/commenting-epa-dockets. Any personally identifiable information (e.g., name, address, phone number) included in the comment form or in an attachment may be publicly disclosed in a docket or on the internet (via Regulations.gov, a Federal agency website, or a third-party, non-government website with access to publicly-disclosed data on Regulations.gov). By submitting a comment, you agree to the terms of participation, available at https://www.regulations.gov/user-notice, and privacy notice available at https://www.regulations.gov/privacy-notice.

For 30 days following the date of publication of this notice, EPA will receive written comments relating to the proposed Agreement. EPA will consider all comments received and may modify or withdraw its consent to this proposed Agreement if comments received disclose facts or considerations which indicate that the settlement is inappropriate, improper, or inadequate. EPA's response to any comments received will be available for public inspection at the EPA, Region 1, SEMD Records and Information Center, 5 Post Office Square, Suite 100, Boston, MA 02109, by appointment only, by calling 617-918-1440 or by emailing r1.records-sems@epa.gov. EPA's response to any comments will also be made available at www.epa.gov/superfund/wellsgh.

Dated: November 20, 2024.
Bryan Olson,
Director, Superfund and Emergency Management Division, United States Environmental Protection Agency.

[FR Doc. 2024-27603 Filed 11-25-24; 8:45 am]

BILLING CODE 6560-50-P